DEPARTMENT OF ENERGY

Federal Energy Regulatory Commission

Combined Notice of Filings #1

July 25, 2005.

Take notice that the Commission received the following electric rate filings.

Docket Numbers: ER02-1021-005.

Applicants: Ontario Energy Trading International Corp.

Description: Ontario Energy Trading International Corp., pursuant to the Commission's 6/24/05 letter order (111 FERC ¶ 61,466 (2005)), submits a revision to its market-based rate tariff to incorporate the Commission's change in status reporting requirement .

Filed Date: 07/18/2005.

Accession Number: 20050720-0106.

Comment Date: 5 p.m. eastern time on Monday, August 8, 2005.

Docket Numbers: ER02-1367-003; ER02-1959-002; ER03-25-002; ER99-616-002; ER03-49-000.

Applicants: Calpine Oneta Power, L.P.; CPN Bethpage 3rd Turbine, Inc.; Blue Spruce Energy Center, LLC; Dighton Power Associates, L.P.; Riverside Energy Center, LLC.

Description: The Calpine Entities referenced above submit a joint updated market power analysis and revised market-based rate tariffs to reflecting the reporting requirements adopted by the Commission in Order No. 652.

Filed Date: 07/18/2005.

Accession Number: 20050720-0198.

Comment Date: 5 p.m. eastern time on Monday, August 8, 2005.

Docket Numbers: ER05-170-002.

Applicants: Southern California Edison Company.

Description: Southern California Edison Company submits a compliance filing pursuant to the Commission's order issued 6/15/05, 111 FERC ¶ 61,394 (2005).

Filed Date: 07/15/2005.

Accession Number: 20050718-0234.

Comment Date: 5 p.m. eastern time on Friday, August 5, 2005.

Docket Numbers: ER05-1047-001.

Applicants: Midwest Independent Transmission System Operator, Inc.

Description: Midwest Independent Transmission System Operator, Inc. submits an amendment to its 5/31/05 filing in Docket No. ER05-1047-000 of an interconnection and operation agreement among East Ridge Transmission, LLC, the Midwest ISO and Great River Energy.

Filed Date: 07/18/2005.

Accession Number: 20050720-0105.

Comment Date: 5 p.m. eastern time on Monday, August 8, 2005.

Docket Numbers: ER05-1048-001.

Applicants: Midwest Independent Transmission System Operator, Inc.

Description: Midwest Independent Transmission System Operator, Inc. amends its 5/31/05 filing in Docket No. ER05-1048-000 of an interconnection and operation agreement among Wolf Wind Transmission, LLC, the Midwest ISO and Great River Energy

Filed Date: 07/18/2005.

Accession Number: 20050720-0104.

Comment Date: 5 p.m. eastern time on Monday, August 8, 2005.

Docket Numbers: ER05-1214-000.

Applicants: Southern California Edison Company.

Description: Southern California Edison Company (SCE) submits the Wintec III Project Interconnection Facilities Agreement and the Service Agreement for Wholesale Distribution Service between SCE and Wintec Energy, Ltd.

Filed Date: 07/15/2005.

Accession Number: 20050718-0114.

Comment Date: 5 p.m. eastern time on Friday, August 5, 2005.

Docket Numbers: ER05-1223-000.

Applicants: Florida Keys Electric Cooperative Association, Inc.

Description: Florida Keys Electric Cooperative Association, Inc submits a notice of cancellation of its agreement to provide capacity and energy to Florida Power &Light Company, designated as Rate Schedule 1.

Filed Date: 07/18/2005.

Accession Number: 20050720-0108.

Comment Date: 5 p.m. eastern time on Monday, August 8, 2005.

Docket Numbers: ER05-1224-000.

Applicants: InterCoast Power Marketing Company.

Description: InterCoast Power Marketing Company notifies FERC of its cancellation, surrender, and relinquishment of authority granted by FERC to make wholesale sales of electricity at market-based rates.

Filed Date: 07/18/2005.

Accession Number: 20050720-0109.

Comment Date: 5 p.m. eastern time on Monday, August 8, 2005.

Docket Numbers: ER05-1150-001.

Applicants: Duke Energy Corporation.

Description: Duke Energy Corporation on behalf of Duke Electric Transmission submitted an errata to its 6/27/05 filing of its Network Integration Transmission Service Agreement between itself and New Horizon Electric Cooperative, Inc.

Filed Date: 07/13/2005.

Accession Number: 20050715-0157.

Comment Date: 5 p.m. eastern time on Wednesday, August 3, 2005.

Docket Numbers: ER94-1188-036; ER98-4540-005; ER99-1623-005; ER98-1279-007; EL05-99-000.

Applicants: LG&E Energy Marketing Inc.; Louisville Gas & Electric Company; Kentucky Utilities Company; Western Kentucky Energy Corporation.

Description: LG&E Energy Marketing Inc.; Louisville Gas & Electric Company; Kentucky Utilities Company; Western Kentucky Energy Corporation submit an amendment to their 7/5/05 filing submitted in compliance with the Commission's order issued May 5, 2005, 111 FERC ¶ 61,153 (2005).

Filed Date: 07/15/2005.

Accession Number: 20050719-0099.

Comment Date: 5 p.m. eastern time on Friday, August 5, 2005.

Docket Numbers: ER96-1085-008.

Applicants: South Carolina Electric & Gas Company.

Description: South Carolina Electric and Gas Company submits a revised negotiated market sales tariff designated as FERC Electric Tariff, Fourth Revised Volume No. 2, pursuant to the Commission's 6/16/05 Order, 111 FERC ¶ 61,410 (2005).

Filed Date: 07/18/2005.

Accession Number: 20050720-0200.

Comment Date: 5 p.m. eastern time on Monday, August 8, 2005.

Docket Numbers: ER96-1551-014; ER01-615-010; and EL05-2-000

Applicants: Public Service Company of New Mexico.

Description: Public Service Company New Mexico submits a compliance filing pursuant to the Commission's order issued 4/14/05, 111 FERC ¶ 61,038 (2005).

Filed Date: 07/15/2005.

Accession Number: 20050719-0138.

Comment Date: 5 p.m. eastern time on Friday, August 5, 2005.

Docket Numbers: ER96-2143-015.

Applicants: Monterey Consulting Associates Inc.

Description: Monterey Consulting Associates, Inc submits its updated Market Power Analysis in compliance with the Commission's order issued May 31, 2005, 111 FERC ¶ 61,295 (2005).

Filed Date: 07/15/2005.

Accession Number: 20050720-0107.

Comment Date: 5 p.m. eastern time on Friday, August 5, 2005.

Docket Numbers: ER99-4160-003; ER99-4160-008; ER98-1127-005; ER98-1796-006; ER99-1115-007; ER99-1116-007; ER99-1567-004; ER99-2157-004; ER00-1049-005; ER00-1895-005; ER01-140-004; ER01-141-004; ER01-943-004; ER01-1044-005; ER01-3109-005; ER02-506-005; ER02-553-004; ER98-2782-009; ER02-2202-008; ER03-42-009.

Applicants: Dynegy Power Marketing, Inc.; El Segundo Power, LLC; Long Beach Generation, LLC; Cabrillo Power I LLC; Cabrillo Power II LLC; Rockingham Power, L.L.C.; Rocky Road Power, LLC; Calcasieu Power, LLC; Dynegy Midwest Generation, Inc.; Dynegy Danskammer, L.L.C.; Dynegy Roseton, L.L.C.; Heard County Power, L.L.C.; Riverside Generating Company, L.L.C.; Renaissance Power, L.L.C.; Bluegrass Generation Company, L.L.C.; Rolling Hills Generating, L.L.C.; AG-Energy, L.P.; Seneca Power Partners, Sterling Power Partners, L.P., Sithe/Independent Power Partners, L.P., Sithe Energy Marketing, L.P.; Power City Partners, L.P.

Description: The various subsidiaries of Dynegy Inc. with market-based rate authority submit revisions to their market-based rate tariffs to incorporate the change in status reporting requirement in compliance with the Commission's 6/16/05 Order, 111 FERC ¶ 61,411 (2005).

Filed Date: 07/18/2005.

Accession Number: 20050721-0186.

Comment Date: 5 p.m. eastern time on Monday, August 8, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding.

Anyone filing a motion to intervene or protest must serve a copy of that document on the Applicant. In reference to filings initiating a new proceeding, interventions or protests submitted on or before the comment deadline need not be served on persons other than the Applicant.

The Commission encourages electronic submission of protests and interventions in lieu of paper, using the FERC Online links at 5 p.m. eastern time. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Linda Mitry,
Deputy Secretary.

[FR Doc. E5-4081 Filed 7-29-05; 8:45 am]

BILLING CODE 6717-01-P